DEPARTMENT OF TRANSPORTATION

Federal Aviation Administration

Notice of Intent To Request Revision From the Office of Management and Budget of a Currently Approved Information Collection Activity, Request for Comments; Aircraft Assembly Placard Requirements

AGENCY: Federal Aviation Administration (FAA), DOT.

ACTION: Notice and request for comments.

SUMMARY: The FAA invites public comments about our intention to request the Office of Management and Budget (OMB) to approve a current information collection. Per this rule, aircraft operators need to add a statement to the seat back pocket card stating the country of origin of final assembly of the aircraft.

DATES: Please submit comments by October 15, 2007.

FOR FURTHER INFORMATION CONTACT: Carla Mauney on (202) 267-9895, or by e-mail at: Carla.Mauney@faa.gov.

SUPPLEMENTARY INFORMATION:

Federal Aviation Administration (FAA)

Title: Aircraft Assembly Placard Requirements.

Type of Request: Extension of an approved collection.

OMB Control Number: 2120-0691.

Forms(s): There are no FAA forms associated with this collection.

Affected Public: A total of 150 respondents.

Frequency: The information is collected on occasion.

Estimated Average Burden Per Response: Approximately 1 minute per response.

Estimated Annual Burden Hours: An estimated 13,313 hours annually.

Abstract: This rule was mandated by an act of Congress. Aircraft operators that are required to provide emergency evacuation procedures in the form of a seat-back pocket card are affected by this rule. These operators need to add a statement to the seat back pocket card stating the country of origin of final assembly of the aircraft.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 8, 2007.
Carla Mauney,
FAA Information Collection Clearance Officer, IT Enterprises Business Services Division, AES-200.

[FR Doc. 07-3967 Filed 8-14-07; 8:45 am]

BILLING CODE 4910-13-M